DEPARTMENT OF ENERGY

Federal Energy Regulatory Commission

Notice of Commission Staff Attendance at MISO Meetings

The Federal Energy Regulatory Commission hereby gives notice that members of the Commission and Commission staff may attend the following MISO-related meetings:

• Advisory Committee (10 a.m.-1 p.m., Local Time)

○ January 18

○ February 15 (Windsor Court Hotel, 300 Gravier Street, New Orleans, LA)

○ March 14

○ April 18

○ May 16

○ July 18

○ August 22 (St. Paul Hotel, 350 Market St., St. Paul, MN)

○ September 19

○ October 17

○ November 14

○ December 12

• Board of Directors (8:30 a.m.-10 a.m., Local Time)

○ February 16 (Windsor Court Hotel, 300 Gravier Street, New Orleans, LA)

○ April 19

○ June 21 (French Lick Resort, 8670 West State Road 56, French Lick, IN)

○ August 23 (St. Paul Hotel, 350 Market St., St. Paul, MN)

○ October 18

○ December 13

• Board of Directors Markets Committee (8 a.m.-10 a.m., Local Time)

○ January 18

○ February 15 (Windsor Court Hotel, 300 Gravier Street, New Orleans, LA)

○ March 14

○ April 18

○ May 16

○ June 20 (French Lick Resort, 8670 West State Road 56, French Lick, IN)

○ July 18

○ August 22 (St. Paul Hotel, 350 Market St., St. Paul, MN)

○ September 19

○ October 17

○ November 14

○ December 12

• Board of Directors System Planning Committee

○ February 14 (5:15pm-6:15pm) (Windsor Court Hotel, 300 Gravier Street, New Orleans, LA)

○ April 18 (3:30pm-5:15pm)

○ June 19 (11:15am-12:45pm) (French Lick Resort, 8670 West State Road 56, French Lick, IN)

○ August 22 (5:00pm-6:30pm) (St. Paul Hotel, 350 Market St., St. Paul, MN)

○ October 16 (4:00-5:30pm)

○ December 12 (3:15-5:15pm)

• MISO Informational Forum (3 p.m.-5 p.m., Local Time)

○ January 18

○ February 15

○ March 15

○ April 19

○ May 17

○ June 14

○ July 19

○ August 16 (St. Paul Hotel, 350 Market St., St. Paul, MN)

○ September 13

○ October 18

○ November 15

○ December 13

• MISO Market Subcommittee (9 a.m.-5 p.m., Local Time)

○ January 31

○ February 28

○ April 3

○ May 1

○ June 5

○ July 10

○ August 7

○ September 4

○ October 2

○ October 30

○ December 4

• MISO Supply Adequacy Working Group (9 a.m.-5 p.m., Local Time)

○ February 2

○ March 1

○ April 5

○ May 3

○ June 7

○ July 12

○ August 9

○ September 6

○ October 4

○ November 1

○ December 13

• MISO Regional Expansion Criteria and Benefits Task Force (9 a.m.-5 p.m., Local Time)

○ January 26

○ February 23

○ March 22

○ April 26

○ May 24

○ June 28

○ July 26

○ August 30

○ September 27

○ October 25

○ November 29

○ December 20

Except as noted, all of the meetings above will be held at: MISO Headquarters, 701 City Center Drive, 720 City Center Drive, and Carmel, IN 46032.

Further information may be found at www.midwestiso.org.

The above-referenced meetings are open to the public.

The discussions at each of the meetings described above may address matters at issue in the following proceedings:

Docket No. RM01-5, Electronic Tariff Filings

Docket Nos. ER04-691, EL04-104 and ER04-106, et al., Midwest Independent Transmission System Operator, Inc., et al.

Docket No. ER05-6, et al., Midwest Independent Transmission System Operator, Inc., et al.

Docket No. ER05-636, Midwest Independent Transmission System Operator, Inc.

Order No. 890, Preventing Undue Discrimination and Preference in Transmission Service

Docket Nos. ER06-18, et al., Midwest Independent Transmission System Operator, Inc.

Docket No. ER06-56, Midwest Independent Transmission System Operator, Inc.

Docket No. ER06-192, Midwest Independent Transmission System Operator, Inc.

Order Nos. 693 and 693-A, Mandatory Reliability Standards for Bulk-Power System

Docket No. AD07-12, Reliability Standard Compliance and Enforcement in Regions with Independent System Operators and Regional Transmission Organizations

Docket No. ER07-1182, Midwest Independent Transmission System Operator, Inc.

Docket No. ER07-1372, Midwest Independent Transmission System Operator, Inc.

Docket Nos. RR07-2, et al., Delegation Agreement Between the North American Electric Reliability Corporation and Midwest Reliability Organization, et al.

Docket No. EL08-32, Central Minnesota Municipal Power Agency and Midwest Municipal Transmission Group, Inc.

Docket No. OA08-53, Midwest Independent Transmission System Operator, Inc.

Docket No. ER08-194, et al., Midwest Independent Transmission System Operator, Inc.

Docket No. ER08-394, Midwest Independent Transmission System Operator, Inc.

Docket No. ER08-925, Midwest Independent Transmission System Operator, Inc.

Docket No. ER08-1074, Midwest Independent Transmission System Operator, Inc.

Docket No. ER08-1169, Midwest Independent Transmission System Operator, Inc.

Docket No. RM08-19, Mandatory Reliability Standards for the Calculation of Available Transfer, Capacity Benefit Margins, Transmission Reliability Margins, Total Transfer Capability, and Existing Transmission Commitments and Mandatory Reliability Standards for the Bulk Power System

Docket No. AD09-10, National Action Plan on Demand Response

Docket No. AD09-15, Version One Regional Reliability Standard for Resource and Demand Balancing.

Docket No. ER09-1049, Midwest Independent Transmission System Operator, Inc.

Docket No. ER09-1074, Midwest Independent Transmission System Operator, Inc.

Docket No. ER09-1431, Midwest Independent Transmission System Operator, Inc.

Docket No. AD10-5, RTO/ISO Performance Metrics.

Docket No. AD10-14, Reliability Standards Development and NERC and Regional Entity Enforcement.

Docket No. EC10-39, American Transmission Company, LLC.

Docket No. EL10-41, Tatanka Wind Power, LLC v. Montana-Dakota Utilities Company, a division of MDU Resources Group, Inc.

Docket No. EL10-45, Midwest Independent Transmission System Operator, Inc. v. PJM Interconnection, LLC.

Docket No. EL10-46, Midwest Independent Transmission System Operator, Inc. v. PJM Interconnection, LLC.

Docket No. EL10-60, PJM Interconnection, LLC v. Midwest Independent Transmission System Operator, Inc.

Docket No. ER10-8, Midwest Independent Transmission System Operator, Inc.

Docket Nos. ER10-9, 10-73, 10-74, Dairyland Power Cooperative v. Midwest Independent Transmission System Operator, Inc.

Docket Nos. ER10-209, EL10-12, and ER10-640, Commonwealth Edison Company and Commonwealth Edison Company of Indiana, Inc. v. Midwest Independent Transmission System Operator, Inc.

Docket No. ER10-1791, Midwest Independent Transmission System Operator, Inc. and the Midwest ISO Transmission Owners

Docket No. ER10-2090, Midwest Independent Transmission System Operator, Inc.

Docket No. ER10-2283, Midwest Independent Transmission System Operator, Inc.

Docket No. ES10-31, Midwest Independent Transmission System Operator, Inc.

Docket No. PL10-4, Enforcement of Statutes, Orders, Rules, and Regulations

Docket No. RM09-13, Time Error Correction Reliability Standard

Docket No. RM10-9, Transmission Loading Relief Reliability Standard and Curtailment Priorities

Docket No. RM10-11, Integration of Variable Energy Resources

Docket No. RM10-13, Credit Reforms in Organized Wholesale Electric Markets

Docket No. RM10-17 and EL09-68, Demand Response Compensation in Organized Wholesale Energy Markets

Docket No. RM10-23 and Order No. 1000, Transmission Planning and Cost Allocation by Transmission Owning and Operating Public Utilities

Docket No. ER11-15, Midwest Independent Transmission System Operator, Inc.

Docket No. ER11-138, Midwest Independent Transmission System Operator, Inc.

Docket No. ER11-1991, Midwest Independent Transmission System Operator, Inc.

Docket No. ER11-3225, Midwest Independent Transmission System Operator, Inc.

Docket No. ER11-2275, Midwest Independent Transmission System Operator, Inc.

Docket No. ER11-2700, Midwest Independent Transmission System Operator, Inc.

Docket No. ER11-3279, Midwest Independent Transmission System Operator, Inc.

Docket No. ER11-4081, Midwest Independent Transmission System Operator, Inc.

Docket No. ER11-3728, Midwest Independent Transmission System Operator, Inc.

Docket No. ER11-3572, Midwest Independent Transmission System Operator, Inc.

Docket No. ER11-4305, Midwest Independent Transmission System Operator, Inc.

Docket No. ER12-33, Midwest Independent Transmission System Operator, Inc.

Docket No. ER12-56, Midwest Independent Transmission System Operator, Inc.

Docket No. ER12-212, Midwest Independent Transmission System Operator, Inc.

Docket No. ER12-214, Midwest Independent Transmission System Operator, Inc.

Docket No. ER12-242, Midwest Independent Transmission System Operator, Inc.

Docket No. ER12-274, Midwest Independent Transmission System Operator, Inc.

Docket No. ER12-290, Midwest Independent Transmission System Operator, Inc.

Docket No. ER12-297, Midwest Independent Transmission System Operator, Inc.

Docket No. ER12-309, Midwest Independent Transmission System Operator, Inc.

Docket No. ER12-310, Midwest Independent Transmission System Operator, Inc.

Docket No. ER12-312, Midwest Independent Transmission System Operator, Inc.

Docket No. ER12-334, Midwest Independent Transmission System Operator, Inc.

Docket No. ER12-351, Midwest Independent Transmission System Operator, Inc.

Docket No. ER11-3415, Midwest Independent Transmission System Operator, Inc.

Docket No. ER12-427, Midwest Independent Transmission System Operator, Inc.

Docket No. ER12-450, Midwest Independent Transmission System Operator, Inc.

Docket No. ER12-451, Midwest Independent Transmission System Operator, Inc.

Docket No. ER12-480, Midwest Independent Transmission System Operator, Inc.

Docket No. ER12-517, Midwest Independent Transmission System Operator, Inc.

Docket No. OA08-53, Midwest Independent Transmission System Operator, Inc.

Docket No. EL12-11, Rail Splitter Wind Farm v. Ameren and MISO

For more information, contact Patrick Clarey, Office of Energy Markets Regulation, Federal Energy Regulatory Commission at (317) 249-5937 or patrick.clarey@ferc.gov, or Christopher Miller, Office of Energy Markets Regulation, Federal Energy Regulatory Commission at (317) 249-5936 or christopher.miller@ferc.gov.

Dated: January 5, 2012.
Kimberly D. Bose,
Secretary.

[FR Doc. 2012-423 Filed 1-11-12; 8:45 am]

BILLING CODE 6717-01-P